ENVIRONMENTAL PROTECTION AGENCY

40 CFR Part 52

[R06-OAR-2005-TX-0016; FRL-8000-6]

Approval and Promulgation of Air Quality Implementation Plans; Texas; Permits by Rule

AGENCY: Environmental Protection Agency (EPA).

ACTION: Withdrawal of direct final rule.

SUMMARY: On September 28, 2005 (70 FR 56566), EPA published a direct final rule to approve a State Implementation Plan (SIP) revision for the State of Texas. This action removed a provision from the Texas SIP which provided public notice for concrete batch plants which were constructed under a permit by rule (PBR). The direct final action was published without prior proposal because EPA anticipated no adverse comment. EPA stated in the direct final rule that if EPA received adverse comment by October 28, 2005, EPA would publish a timely withdrawal in the Federal Register. EPA subsequently received a timely adverse comment on the direct final rule. Therefore, EPA is withdrawing the direct final approval. EPA will address the comment in a subsequent final action based on the parallel proposal also published on September 28, 2005 (70 FR 56612). As stated in the parallel proposal, EPA will not institute a second comment period on this action.

DATES: The direct final rule published on September 28, 2005 (70 FR 56566) is withdrawn as of November 23, 2005.

FOR FURTHER INFORMATION CONTACT: Stanley M. Spruiell, Air Permits Section (6PD-R), Environmental Protection Agency, Region 6, 1445 Ross Avenue, Suite 700, Dallas, Texas 75202-2733, telephone (214) 665-7212; fax number 214-665-7263; e-mail address spruiell.stanley@epa.gov.

List of Subjects in 40 CFR Part 52

Environmental protection, Air pollution control, Carbon monoxide, Intergovernmental relations, Lead, Nitrogen dioxide, Ozone, Particulate matter, Sulfur oxides, Volatile organic compounds.

Dated: November 15, 2005.
Lawrence E. Starfield,
Acting Regional Administrator, Region 6.

[FR Doc. 05-23216 Filed 11-22-05; 8:45 am]

BILLING CODE 6560-50-P